DEPARTMENT OF EDUCATION

Tests Determined To Be Suitable for Use in the National Reporting System for Adult Education

Correction

In notice document 2021-22951, appearing on pages 58258-58260 in the issue of Thursday, October 21, 2021, make the following change:

1. On page 58259, in the first column, lines 66-68, text should appear as follows:

NRS.

TESTS DETERMINED TO BE SUITABLE FOR USE IN THE NRS FOR A SEVEN-YEAR PERIOD FROM THE

2. On the same page, in the second column, lines 62-69, text should appear as follows:

acls/assessment/.

TEST DETERMINED TO BE SUITABLE FOR USE IN THE NRS FOR A THREE-YEAR PERIOD FROM THE PUBLICATION DATE OF THE ORIGINAL NOTICE IN WHICH IT WAS ANNOUNCED AND APPROVED FOR AN EXTENDED PERIOD THROUGH MARCH 7, 2023:

3. On the same page, in the third column, lines 14-20, text should appear as follows:

www.casas.org/.

ESL TESTS PREVIOUSLY APPROVED FOR AN EXTENDED PERIOD THROUGH FEBRUARY 2, 2021, AND APPROVED FOR AN ADDITIONAL EXTENDED PERIOD THROUGH FEBRUARY 2, 2023:

[FR Doc. C1-2021-22951 Filed 11-12-21; 8:45 am]

BILLING CODE0099-10-P